DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Proposed Project: SAMHSA Checklist for SF-5161 (OMB No. 0930-0367)—REVISION

The Substance Abuse and Mental Health Services Administration (SAMHSA) is requesting a revision from the Office of Management and Budget (OMB) for the SF-5161—Checklist. SAMHSA is requesting approval to only collect information on the Checklist and not the Narrative. The Checklist assists applicants and recipients to ensure that they have included all required information necessary to process new and continuation applications as well as the name, title, and phone number of the current business official and project director responsible for carrying out the project. Checklist information concerning the type of application is also needed since new, competing continuation; noncompeting continuation and supplemental applications are separated and reviewed differently. The checklist data helps to reduce the time required to process and review grant applications, expediting the issuance of grant awards as well as ensure collection of essential recipient contact information that is not collected elsewhere.

This data collection has been transferred from HHS to SAMHSA.

The checklist is part of the standard application (SF-5161) for State and local governments and for private non-profit and for-profit organizations when applying for health services projects.

Below is the annualized burden table:

Forms | Number of respondents | Response per respondent | Average burden per response (in hours) | Total burden (in hours)
Program Checklist | 2,669 | 1 | .3 | 801

Written comments and recommendations concerning the proposed information collection should be sent by June 7, 2017 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2017-09254 Filed 5-5-17; 8:45 am]

BILLING CODE 4162-20-P